DEPARTMENT OF THE TREASURY

Agency Information Collection Activities; Submission for OMB Review; Comment Request; Internal Revenue Service (IRS) Information Collection Request

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before February 20, 2025 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Melody Braswell by emailing PRA@treasury.gov, calling (202) 622-1035, or viewing the entire information collection request at www.reginfo.gov.

SUPPLEMENTARY INFORMATION:

Internal Revenue Service (IRS)

Title: IRS Governmental Liaison (GL) Data Exchange Request.

OMB Number: 1545-NEW.

Form Number: Form 15426.

Abstract: Form 15426 is an initial intake form used to establish a collaboration between internal IRS business units and external stakeholders before the commencement of any agreement of tax return and tax return information to be exchanged. The respondents are Federal, State, and local agencies that are voluntarily initiating a request for data from the IRS.

Current Actions: There is a new information collection.

Type of Review: New collection.

Affected Public: Federal, State, and local agencies.

Estimated Number of Responses: 15.

Estimated Time per Respondent: 1 hour.

Estimated Total Annual Burden Hours: 15.

Authority: 44 U.S.C. 3501 et seq.

Melody Braswell,
Treasury PRA Clearance Officer.

[FR Doc. 2025-01359 Filed 1-17-25; 8:45 am]

BILLING CODE 4830-01-P